FEDERAL ELECTION COMMISSION

Sunshine Act Meeting Notice

DATE & TIME: Tuesday, August 10, 2004, at 10 a.m.

PLACE: 999 E Street, NW., Washington, DC.

STATUS: This meeting will be closed to the public.

ITEMS TO BE DISCUSSED: Compliance matters pursuant to 2 U.S.C. 437g.

Audits conducted pursuant to 2 U.S.C. 437g, 438(b), and Title 26, U.S.C.

Matters concerning participation in civil actions or proceedings or arbitration.

Internal personnel rules and procedures or matters affecting a particular employee.

DATE & TIME: Thursday, August 12, 2004 at 10 a.m.

PLACE: 999 E Street, NW., Washington, DC (ninth floor).

STATUS: This meeting will be open to the public.

ITEMS TO BE DISCUSSED: Correction and Approval of Minutes.

Advisory Opinion 2004-21: Give to USA, Inc. by Matthew L. Ginsberg, Chief Executive Officer, On Time Systems, Inc.

Advisory Opinion 2004-23: U.S. Oncology, Inc. Good Government Committee (“USON-GGC”) by counsel, Thomas J. Spulak.

Advisory Opinion 2004-24: NGP Software, Inc. by Nathaniel Pearlman, President.

Advisory Opinion 2004-25: Senator Jon Corzien by counsel, Marc E. Elias.

Routine Administrative Matters.

PERSON TO CONTACT FOR INFORMATION: Mr. Robert Biersack, Acting Press Officer, Telephone: (202) 694-1220.

Mary W. Dove,
Secretary of the Commission.

[FR Doc. 04-18078 Filed 8-3-04; 3:16 am]

BILLING CODE 6715-01-M